DEPARTMENT OF ENERGY

Federal Energy Regulatory Commission

Combined Notice of Filings

Take notice that the Commission has received the following Natural Gas Pipeline Rate and Refund Report filings:

Filings Instituting Proceedings

Docket Numbers: RP14-492-000.

Applicants: Iroquois Gas Transmission System, L.P.

Description: 02/20/14 Negotiated Rates—Sequent Energy Management (HUB) 3075-89 to be effective 2/19/2014.

Filed Date: 2/20/14.

Accession Number: 20140220-5084.

Comments Due: 5 p.m. ET 3/4/14.

Docket Numbers: RP14-493-000.

Applicants: Florida Gas Transmission Company, LLC.

Description: Curtailment Priority Filing on 2-20-14 to be effective 3/23/2014.

Filed Date: 2/20/14.

Accession Number: 20140220-5086.

Comments Due: 5 p.m. ET 3/4/14.

Docket Numbers: RP14-494-000.

Applicants: Questar Pipeline Company.

Description: Remove expired contracts from Statements of Rates to be effective 3/22/2014.

Filed Date: 2/20/14.

Accession Number: 20140220-5090.

Comments Due: 5 p.m. ET 3/4/14.

Docket Numbers: RP14-495-000.

Applicants: Natural Gas Pipeline Company of America.

Description: BG Energy's Negotiated Rate to be effective 4/1/2014.

Filed Date: 2/20/14.

Accession Number: 20140220-5097.

Comments Due: 5 p.m. ET 3/4/14.

Docket Numbers: RP14-496-000.

Applicants: Southern LNG Company, L.L.C.

Description: SLNG Fuel and Electricity Recovery Revisions to be effective 4/1/2014.

Filed Date: 2/20/14.

Accession Number: 20140220-5099.

Comments Due: 5 p.m. ET 3/4/14.

Docket Numbers: RP14-497-000.

Applicants: Iroquois Gas Transmission System, L.P.

Description: 02/20/14 Negotiated Rates—Tenaska Gas Storage, LLC (HUB) 1175-89 to be effective 2/21/2014.

Filed Date: 2/20/14.

Accession Number: 20140220-5144.

Comments Due: 5 p.m. ET 3/4/14.

Docket Numbers: RP14-498-000.

Applicants: Northern Natural Gas Company.

Description: 20140220 Negotiated Rate to be effective 2/21/2014.

Filed Date: 2/20/14.

Accession Number: 20140220-5198.

Comments Due: 5 p.m. ET 3/4/14.

Docket Numbers: RP14-499-000.

Applicants: Northwest Pipeline LLC.

Description: Conditional Extensions Filing to be effective 4/1/2014.

Filed Date: 2/20/14.

Accession Number: 20140220-5217.

Comments Due: 5 p.m. ET 3/4/14.

Docket Numbers: RP14-500-000.

Applicants: Transwestern Pipeline Company, LLC.

Description: Settlement Fuel Filing on 2-21-2014 to be effective 4/1/2014.

Filed Date: 2/21/14.

Accession Number: 20140221-5022.

Comments Due: 5 p.m. ET 3/5/14.

Docket Numbers: RP14-501-000.

Applicants: Southern Natural Gas Company, L.L.C.

Description: Fuel Retention Rates—2014 to be effective 4/1/2014.

Filed Date: 2/21/14.

Accession Number: 20140221-5025.

Comments Due: 5 p.m. ET 3/5/14.

Docket Numbers: RP14-502-000.

Applicants: Gulf South Pipeline Company, LP.

Description: PAL Neg Rate Agmts Filing (42027, 42028, 42029, 42031, 42033, 42034, 42035) to be effective 2/20/2014.

Filed Date: 2/21/14.

Accession Number: 20140221-5033.

Comments Due: 5 p.m. ET 3/5/14.

Docket Numbers: RP14-503-000.

Applicants: Guardian Pipeline, L.L.C.

Description: Negotiated Rate PAL Agreement—Chevron U.S.A. to be effective 2/22/2014.

Filed Date: 2/21/14.

Accession Number: 20140221-5170.

Comments Due: 5 p.m. ET 3/5/14.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP14-370-001.

Applicants: Bear Creek Storage Company, L.L.C.

Description: Operational Transactions—Compliance to be effective 2/14/2014.

Filed Date: 2/20/14.

Accession Number: 20140220-5082.

Comments Due: 5 p.m. ET 3/4/14.

Any person desiring to protest in any of the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated February 24, 2014.
Nathaniel J. Davis, Sr.,
Deputy Secretary.

[FR Doc. 2014-04517 Filed 2-28-14; 8:45 am]

BILLING CODE 6717-01-P